DEPARTMENT OF COMMERCE

National Oceanic and Atmospheric Administration

[I.D. 021902E]

Proposed Information Collection; Comment Request; Northeast Region Logbook Family of Forms

AGENCY: National Oceanic and Atmospheric Administration (NOAA).

ACTION: Notice

SUMMARY: The Department of Commerce, as part of its continuing effort to reduce paperwork and respondent burden, invites the general public and other Federal agencies to take this opportunity to comment on proposed and/or continuing information collections, as required by the Paperwork Reduction Act of 1995, Pub. L. 104-13 (44 U.S.C. 3506(c)(2)(A)).

DATES: Written comments must be submitted on or before April 23, 2002.

ADDRESSES: Direct all written comments to Madeleine Clayton, Departmental Paperwork Clearance Officer, Department of Commerce, Room 6086, 14th and Constitution Avenue, NW, Washington, DC 20230 (or via the Internet at mClayton@doc.gov).

FOR FURTHER INFORMATION CONTACT: Requests for additional information or copies of the information collection instrument(s) and instructions should be directed to Kelley McGrath, One Blackburn Drive, Gloucester, MA 10930 (phone 978-281-9307 or e-mail Kelley.McGrath@noaa.gov).

SUPPLEMENTARY INFORMATION: SUPPLEMENTARY INFORMATION:

I. Abstract

Fishing vessels permitted to participate in Federally-permitted fisheries in the Northeast are required to submit logbooks containing catch and effort information about their fishing trips. Participants in the herring and tilefish fisheries are also required to make weekly reports on their catch through an Interactive Voice Response (IVR) system. In addition, permitted vessels that catch halibut are asked to voluntarily provide additional information on the estimated size of the fish and the time of day caught. The information submitted is needed for the management of the fisheries.

This action seeks to both renew Paperwork Reduction Act clearance for this collection and to merge related requirements for bluefish and herring cleared under OMB control numbers 0648-0389 and 0648-0407.

II. Method of Collection

Most information is submitted on paper forms, although electronic means may be arranged. In the herring and tilefish fisheries vessel owners or operators must provide weekly catch information to an IVR system.

III. Data

OMB Number: 0648-0212.

Form Number: NOAA Forms 88-30, 88-140.

Type of Review: Regular submission.

Affected Public: Business and other for-profit organizations.

Estimated Number of Respondents: 5,640.

Estimated Time Per Response: 5 minutes per Fishing Vessel Trip Report page (FVTR); 12.5 minutes per response for the Shellfish Log; 4 minutes for a herring or tilefish report to the IVR system; and 30 seconds for voluntary additional halibut information.

Estimated Total Annual Burden Hours: 6,396.

Estimated Total Annual Cost to Public: $28,000.

IV. Request for Comments

Comments are invited on: (a) whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: February 14, 2002.
Gwellnar Banks,
Management Analyst, Office of the Chief Information Officer.

[FR Doc. 02-4280 Filed 2-21-02; 8:45 am]

BILLING CODE 3510-22-S